ENVIRONMENTAL PROTECTION AGENCY

40 CFR Part 131

[FRL -6941-1]

RIN 2040-AC44

Water Quality Standards; Establishment of Numeric Criteria for Priority Toxic Pollutants for the State of California; Correction

AGENCY: Environmental Protection Agency.

ACTION: Final Rule; correction.

SUMMARY: This document contains corrections to a final rule, Water Quality Standards; Establishment of Numeric Criteria for Priority Toxic Pollutants for the State of California, also know as the California Toxics Rule, which was published in the Federal Register on Thursday, May 18, 2000 (65 FR 31682). The California Toxics Rule promulgated numeric aquatic life and human health criteria for priority toxic pollutants and a compliance schedule provision which authorizes the State to issue schedules of compliance for new or revised National Pollutant Discharge Elimination System permit limits based on the federal criteria when certain conditions are met.

EFFECTIVE DATE: This action is effective February 13, 2001.

ADDRESSES: The administrative record for the final rule is available for public inspection at the U.S. Environmental Protection Agency, Region 9, Water Division, 75 Hawthorne Street, San Francisco, California 94105, between the hours of 8 a.m. and 4:30 p.m. For access to the administrative record, call Diane E. Fleck, P.E., Esq. at (415) 744-1997 for an appointment. A reasonable fee will be charged for photocopies.

FOR FURTHER INFORMATION CONTACT: Diane E. Fleck, P.E., Esq. or Philip Woods, U.S. Environmental Protection Agency, Region 9, Water Division, 75 Hawthorne Street, San Francisco, California 94105, (415) 744-1984 or (415) 744-1997, respectively.

SUPPLEMENTARY INFORMATION: On May 18, 2000, EPA published a final rule in the Federal Register titled Water Quality Standards; Establishment of Numeric Criteria for Priority Toxic Pollutants for the State of California (see 65 FR 31682) that contained typographical errors. These typographical errors consisted of omission of units in the column headings to a table, inadvertent placement of a zero in one of the numeric criteria values, an oversight in the correct CAS number for a pollutant, and the incorrect placement of a parameter in a formula. This action corrects those typographical errors. These corrections are all minor in nature and do not substantively alter the final rule.

Section 553 of the Administrative Procedure Act, 5 U.S.C. 553(b)(B), provides that, when an agency for good cause finds that notice and public procedure are impracticable, unnecessary or contrary to the public interest, the agency may issue a rule without providing notice and an opportunity for public comment. EPA has determined that there is good cause for making today's rule final without prior proposal and opportunity for comment because this action merely corrects typographical errors in a rule that already went through public notice and comment. Furthermore, the corrections in today's rule are all minor in nature and do not substantively alter the final rule. Thus, notice and public procedure are unnecessary. EPA finds that this constitutes good cause under 5 U.S.C. 553(b)(B).

Under Executive Order 12866 (58 FR 51735, October 4, 1993), this action is not a “significant regulatory action” and is therefore not subject to review by the Office of Management and Budget. Because the agency has made a “good cause” finding that this action is not subject to notice-and-comment requirements under the Administrative Procedure Act or any other statute, it is not subject to the regulatory flexibility provisions of the Regulatory Flexibility Act (5 U.S.C. 601 et seq.), or to sections 202 and 205 of the Unfunded Mandates Reform Act of 1995 (UMRA) (Pub. L. 104-4). In addition, this action does not significantly or uniquely affect small governments or impose a significant intergovernmental mandate, as described in sections 203 and 204 of UMRA. This rule also does not significantly or uniquely affect the communities of tribal governments, as specified by Executive Order 13084 (63 FR 27655, May 10, 1998). This rule will not have substantial direct effects on the States, on the relationship between the national government and the States, or on the distribution of power and responsibilities among the various levels of government, as specified in Executive Order 13132 (64 FR 43255, August 10, 1999). This rule also is not subject to Executive Order 13045 (62 FR 19885, April 23, 1997), because it is not economically significant. This technical correction action does not involve technical standards; thus, the requirements of section 12(d) of the National Technology Transfer and Advancement Act of 1995 (15 U.S.C. 272 note) do not apply. This rule does not impose an information collection burden under the provisions of the Paperwork Reduction Act of 1995 (44 U.S.C. 3501 et seq.). EPA's compliance with these statutes and Executive Orders for the underlying rule is discussed in the May 18, 2000, Federal Register notice (65 FR 31682).

The Congressional Review Act (5 U.S.C. 801 et seq.), as added by the Small Business Regulatory Enforcement Fairness Act of 1996, generally provides that before a rule may take effect, the agency promulgating the rule must submit a rule report, which includes a copy of the rule, to each House of the Congress and to the Comptroller General of the United States. Section 808 allows the issuing agency to make a rule effective sooner than otherwise provided by the CRA if the agency makes a good cause finding that notice and public procedure is impracticable, unnecessary or contrary to the public interest. This determination must be supported by a brief statement. 5 U.S.C. 808(2). As stated previously, EPA has made such a good cause finding, including the reasons therefor, and established an effective date of February 13, 2001. EPA will submit a report containing this rule and other required information to the U.S. Senate, the U.S. House of Representatives, and the Comptroller General of the United States prior to publication of the rule in the Federal Register. This action is not a “major rule” as defined by 5 U.S.C. 804(2).

List of Subjects in 40 CFR Part 131

Environmental protection, Intergovernmental relations, Reporting and recordkeeping requirements, water pollution control.

Dated: January 19, 2001.
J. Charles Fox,
Assistant Administrator, Office of Water.

For the reasons set out in the preamble, part 131 of chapter 1 of title 40 of the Code of Federal Regulations is amended as follows:

PART 131—WATER QUALITY STANDARDS

1. The authority citation for part 131 continues to read as follows:

Authority: 33 U.S.C. 1251 et seq.

Subpart D—[Amended]

2. Section 131.38 is amended:

a. In the table to paragraph (b)(1) under the column heading for “B Freshwater” by revising the column headings for “Criterion Maximum Concentration” and “Criterion Continuous Concentration”.

b. In the table to paragraph (b)(1) under the column heading for “C Saltwater” by revising the column headings for “Criterion Maximum Concentration” and “Criterion Continuous Concentration”.

c. Revising entry “23.” to the table in paragraph (b)(1).

d. Revising entry “67.” to the table in paragraph (b)(1).

e. Revising paragraph (b)(2)(ii).

The revisions read as follows:

§ 131.38 Establishment of Numeric Criteria for priority toxic pollutants for the State of California.

* * * * *

(b)(1) * * *

A: # Compound | A: CAS number | B Freshwater: Criterion maximum conc. (μg/L)ᵈ B1 | B Freshwater: Criterion continous conc. (μg/L)ᵈ B2 | C Saltwater: Criterion maximum conc. (μg/L)ᵈ C1 | C Saltwater: Criterion continious conc. (μg/L)ᵈ C2 | D Human health (10⁻⁶) risk for carcinogens) For consumption of:: Water & organisms (μg/L) D1 | D Human health (10⁻⁶) risk for carcinogens) For consumption of:: Organisms only (μg/L) D2
* * * * * * *
23. Chlorodibromomethane | 124481 |  |  |  |  | ᵃ,ᶜ 0.41 | ᵃ,ᶜ 34
* * * * * * *
67. Bis(2-Chloroisopropyl)Ether | 108601 |  |  |  |  | ᵃ 1,400 | ᵃ,ᵗ 170,000
* * * * * * *
Footnotes to table in Paragraph (b)(1):
* * * * * * *
ᵃ Criteria revised to reflect the Agency q1* or RfD, as contained in the Integrated Risk Information System (IRIS) as of October 1, 1996. The fish tissue bioconcentration factor (BCF) from the 1980 documents was retained in each case.
ᶜ Criteria are based on carcinogenicity of 10⁻⁶ risk.
ᵈ Criteria Maximum Concentration (CMC) equals the highest concentration of a pollutant to which aquatic life can be exposed for a short period of time without deleterious effects. Criteria Continuous Concentration (CCC) equals the highest concentration of a pollutant to which aquatic life can be exposed for an extended period of time (4 days) without deleterious effects. μg/L equals micrograms per liter.
* * * * * * *
ᵗ These criteria were promulgated for specific waters in California in the NTR. The specific waters to which the NTR criteria apply include: Waters of the State defined as bays and estuaries including San Francisco Bay upstream to and including Suisun Bay and the Sacramento-San Joaquin Delta; and waters of the State defined as inland (i.e., all surface waters of the State not bays or estuaries or ocean) without a MUN use designation. This section does not apply instead of the NTR for these criteria.

* * * * *

(2) * * *

(ii) CCC = WER x (Chronic Conversion Factor) x (exp{mc[ln(hardness)]+bc})

* * * * *

[FR Doc. 01-3617 Filed 2-12-01; 8:45 am]

BILLING CODE 6560-50-P